DEPARTMENT OF COMMERCE

International Trade Administration

AGENCY: Department of Commerce.

ACTION: Notice.

Mission Statement

Medical Trade Mission to India: March 8-13, 2010.

Mission Description

The United States Department of Commerce, International Trade Administration, U.S. and Foreign Commercial Service is organizing a Medical Trade Mission to New Delhi, Chennai and Mumbai, India, March 8-13, 2010. The Medical Trade Mission to India will include representatives of U.S. medical/healthcare industry manufacturers (equipment and devices including laboratory, emergency, diagnostic, physiotherapy, and orthopedic equipment, and healthcare information technology) and service providers. The mission will introduce U.S. suppliers to prospective end-users and partners whose needs and capabilities are targeted to each U.S. participant's business objectives. The delegates will meet with Indian government officials to obtain first-hand information about regulations, policies and procedures and will visit healthcare facilities. The Commercial Service in India (CS India) will organize appointments and briefings in New Delhi, Chennai and Mumbai, India's major healthcare industry hubs. U.S. participants will have the opportunity to interact with U.S. Embassy and Consulate officials and CS India healthcare specialists to discuss industry developments, opportunities, and marketing strategies.

Medical Fair India, one of the largest medical tradeshows in India, coincides in time and location with the last stop of the Trade Mission. Trade Mission participants, therefore, can exhibit at the tradeshow, in the U.S. Pavilion, as part of their program. Companies wishing to exhibit in the U.S. pavilion at the Medical Fair can register through the CS India office to receive a discount.

Commercial Setting

The Indian healthcare industry is experiencing a rapid transformation and is emerging as a promising market for U.S. suppliers of high-end products. The Indian healthcare market, currently at $35 billion annually, is expected to reach more than $75 billion annually by 2012. The growth in affluence of more than 300 million middle-income consumers is creating demand for higher standards of healthcare. The changing demographic profile and the rise of lifestyle-related diseases have altered the health seeking behavior of the consumer. While private insurance covers only 10% of the populations, coverage is growing at 40% per year.

The medical infrastructure in India is insufficient for the population, with demand for hospitals and beds far exceeding supply. The problem is acute in rural India, which accounts for over half of India's population, while about 80 percent of available hospital beds are located in the urban centers. Both government and private operators have major expansion plans to meet demand and increase quality. Healthcare in India is provided through primary care facilities and secondary and tertiary care hospitals. While the public sector provides primary and secondary care, tertiary care hospitals are owned and managed by both government and private sector. Over the next 5-6 years, 150-200 tertiary hospital projects are expected to be constructed, including hospitals of varying capacities. Most Indian healthcare facilities use imported medical equipment for diagnosis, treatment and surgery with over 35% of the imports coming from the U.S. New specialty and super-specialty hospitals depend on the import of high-end medical equipment for over 65 percent of their needs, and this sector is growing at a rate of 15 percent annually.

Medical tourism is one of the major external drivers of growth in India's healthcare sector. India treated 450,000 foreign patients in 2007 and the expected increase in this sector is contributing to improved quality controls. India's National Accreditation Board for Hospitals (NABH) operates accreditation programs for healthcare organizations. Some private hospitals are also applying for certification from international accreditation organizations such as the Joint Commission International (JCI). Accreditation by NABH and JCI has ensured better standards of healthcare in hospitals.

Mission Goals

The goal of the Medical Trade Mission to India is to (1) familiarize the U.S. companies with the current healthcare situation as well as the developments taking place; (2) introduce U.S. companies to appropriate government officials in India to learn about various regulatory procedures and policies; and (3) introduce companies to potential end-users, representatives and partners.

Mission Scenario

The first stop on the mission itinerary is New Delhi, the capital. In meetings with representatives of the Ministry of Health, Drug Controller General Office, and Department of Pharmaceuticals, the U.S. mission members will learn about policies, regulations and opportunities in the country's healthcare industry, such as expansion plans of the Fortis and Max hospital groups.

Chennai and Mumbai are the second and third stops of the mission, located in southern and western India respectively. Several corporate hospital chains have their headquarters in these cities. These include the Apollo Group in Chennai, and Wockhard and the Tata Institute of Fundamental Research in Mumbai.

The three cities on the mission itinerary are the regional hubs for the Indian medical/healthcare industry. End-users often prefer to be serviced by regional distributors/agents based in these cities, rather than country-wide distributors. In all three cities the delegates will attend U.S. Embassy or Consulate industry briefings and take part in networking events and business matchmaking appointments.

Participation in the mission will include the following:

• Pre-travel briefings/webinars on subjects including business practices in India and specifics on the medical/healthcare industry;

• Embassy/Consulate briefings on the business climate, political scenario, and medical/healthcare industry in New Delhi, Chennai and Mumbai;

• Pre-scheduled meetings with potential partners, distributors, end-users, or local industry contacts in New Delhi, Chennai and Mumbai;

• Meetings with Indian Government officials;

• Tour of public and private hospitals and interaction with senior hospital staff;

• Networking receptions in three cities of the trade mission;

• Built-up 9sq meter exhibitor booth * in the U.S. Pavilion at Medical Fair India, Mumbai. (Option two only.) * Contact us for price of booth.

Proposed Mission Timetable

Mission participants will be encouraged to arrive Saturday, March 6, 2010 to allow time to adjust to their new surroundings before the mission program begins on Monday, March 8.

Monday, March 8 | New Delhi
| Embassy briefing by U.S. Departments of Commerce and State Meetings with Government of India ministries.
| One-on-one business appointments.
| Evening: Networking reception.
Tuesday, March 9 | New Delhi/Chennai
| Industry briefing.
| One-on-one business appointments.
| Hospital or other site visit.
| Check-out of the hotel.
| Evening flight to Chennai.
Wednesday, March 10 | Chennai
| Breakfast briefing by the U.S. Commercial Service at hotel.
| Hospital visit and meeting with senior management, including the procurement executives.
| One-on-one business appointments.
| Evening: Networking reception.
Thursday, March 11 | Chennai/Mumbai
| One-on-one business appointments.
| Check-out of the hotel.
| Afternoon flight to Mumbai.
Friday, March 12 | Mumbai
| Breakfast briefing by the U.S. Commercial Service at hotel.
| One-on-one business appointments or exhibition at Medical Fair India.
| Evening: Networking reception.
Saturday, March 13 | Mumbai
| Hospital chain visit and meeting with senior management.
| Or Medical Fair India 2010.
| Evening: Check-out of the hotel or remain in Mumbai for Medical Fair India.
| Depart for Mumbai International airport for onward travel.

Participation Requirements

All parties interested in participating in the Medical Trade Mission to India must complete and submit an application for consideration by the Department of Commerce. All applicants will be evaluated on their ability to meet certain conditions and best satisfy the selection criteria as outlined below. The mission is open on a first come first served basis to 15 qualified U.S. companies. Additional applications will be considered as time and space permits.

Fees and Expenses

After a company has been selected to participate on the mission, a payment to the Department of Commerce in the form of a participation fee is required. The participation fees reflect two options:

Option 1: March 8-13, 2010. Participation in the Trade Mission in all three cities: New Delhi, Chennai, and Mumbai. The participation fee will be $4,600 for large firms and $3,900 for a small or medium-sized enterprise (SME) ¹, this includes one principal representative. The fee for each additional firm representative (large firm or SME) is $500.

¹ An SME is defined as a firm with 500 or fewer employees or that otherwise qualifies as a small business under SBA regulations (see http://www.sba.gov/services/contracting_opportunities/sizestandardstopics/index.html). Parent companies, affiliates, and subsidiaries will be considered when determining business size. The dual pricing schedule reflects the Commercial Service's user fee schedule that became effective May 1, 2008 (for additional information see http://www.export.gov/newsletter/march2008/initiatives.html).

Option 2: March 8-11, 2010 participate in the Trade Mission in two cities: New Delhi and Chennai and March 12-14, exhibit at the Medical Fair India 2010 in Mumbai. The participation fee for New Delhi-Chennai and exhibiting in the Fair in Mumbai $6,800 ($3,600 Trade Mission fee + $3,200 for 9 square meter booth space ²) for large firms and $ 6,100 ($2,900 Trade Mission fee + $3,200 for 9 square meter booth space) for an SME, which includes one principal representative. The fee for each additional firm representative (large firm or SME) is $250.

² Minimum booth space is 9 square meters. Companies can take larger space for which cost will be calculated accordingly.

Expenses for lodging, some meals, incidentals, and travel (except for transportation to and from meetings) will be the responsibility of each mission participant.

Conditions for Participation

• An applicant must submit a completed and signed mission application and supplemental application materials, including adequate information on the company's products and/or services, primary market objectives, and goals for participation.

• Each applicant must also certify that the products and services it seeks to export through the mission are either produced in the United States, or, if not, marketed under the name of a U.S. firm and have at least fifty-one percent U.S. content.

Selection Criteria for Participation

Selection will be based on the following criteria:

• Suitability of a company's products or services to the mission's goals.

• Applicant's potential for business in India, including likelihood of exports resulting from the trade mission.

• Consistency of the applicant's goals and objectives with the stated scope of the trade mission.

Any partisan political activities (including political contributions) of an applicant are entirely irrelevant to the selection process.

Timeframe for Recruitment and Applications

Mission recruitment will be conducted in an open and public manner, including posting in the Federal Register, the Commerce Department trade mission calendar (http://www.ita.doc.gov/doctm/tmcal.html), and other Internet Web sites; press releases to general and trade media; direct mail; notices by industry trade associations and other multiplier groups; and publicity at industry meetings, symposia, conferences, and trade shows. Recruitment for the mission will begin immediately and conclude no later than January 31, 2010.

Contacts

U.S. Commercial Service Healthcare Team: Ms. Jetta DeNend, International Trade Specialist, U.S. Commercial Service, 33 Whitehall St. 22nd Floor, New York, NY 10004, Ph: 212-809-2644/Fax: 212-809-268, E-mail: Jetta.DeNend@mail.doc.gov.

U.S. Commercial Service in India: Mr. Srimoti Mukherji, U.S. Commercial Service, New Delhi, Ph: 91-11-23472000, ext 2226, Fax: 91-11-2331 5172, Srimoti.Mukherji@mail.doc.gov.

Lisa Huot,
Global Trade Programs, Commercial Service Trade Missions Program.

[FR Doc. 2010-108 Filed 1-7-10; 8:45 am]

BILLING CODE P